DEPARTMENT OF HEALTH AND HUMAN SERVICES

Request for Public Comments on the Scientific Report of the 2025 Dietary Guidelines Advisory Committee

AGENCY: Office of Disease Prevention and Health Promotion, Office of the Assistant Secretary for Health (OASH), U.S. Department of Health and Human Services (HHS); Food, Nutrition, and Consumer Services (FNCS), U.S. Department of Agriculture (USDA).

ACTION: Notice and request for public comments on the Scientific Report of the 2025 Dietary Guidelines Advisory Committee (Scientific Report).

SUMMARY: The Departments of Health and Human Services and Agriculture invite the public to provide written comments and virtual oral comments on the Scientific Report.

DATES: The written and oral comment collection dates are scheduled as follows:

• Once the Scientific Report is published online, the public will have 60 days to provide written comments to HHS and USDA; this public comment period closes on the 60th calendar day at 11:59 p.m. EST. Specific dates will be announced at www.DietaryGuidelines.gov.

• The public is invited to present virtual oral comments to HHS and USDA on Thursday, January 16, 2025, from 1:00 p.m. to 4:30 p.m. EST; pre-registration is required. Registration for oral comments will open on Monday, December 16, 2024, at 1:00 p.m. EST and close once capacity has been reached. Virtual oral comments can be pre-recorded or provided live virtually via videocast. More information on the oral comment opportunity will be available at www.DietaryGuidelines.gov.

FOR FURTHER INFORMATION CONTACT: Designated Federal Officer, 2025 Dietary Guidelines Advisory Committee, Janet M. de Jesus, MS, RD; Office of Disease Prevention and Health Promotion, 1101 Wootton Parkway, Suite 420, Rockville, MD 20852; Phone: 240-453-8266; Email DietaryGuidelines@hhs.gov. Additional information is available at www.DietaryGuidelines.gov.

SUPPLEMENTARY INFORMATION:

Authority and Purpose: Under section 301 of Public Law 101-445 (7 U.S.C. 5341, the National Nutrition Monitoring and Related Research Act of 1990, title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C. app).

Public Comments: Written comments from the public will be accepted once the Scientific Report of the 2025 Dietary Guidelines Advisory Committee is published online. The public will have 60 calendar days to provide written comments to HHS and USDA; this public comment period closes on the 60th day at 11:59 p.m. EST. Specific dates will be announced at www.DietaryGuidelines.gov.

• Online (preferred method): Follow the instructions for submitting comments at www.regulations.gov. Comments submitted electronically, including attachments, will be posted to Docket HHS-OASH-2024-0017.

• Mail: Mail/courier to Janet M. de Jesus, MS, RD, HHS/OASH/ODPHP, 1101 Wootton Parkway, Suite 420, Rockville, MD 20852. For written/paper submissions, ODPHP will post your comment, and any attachments, to www.regulations.gov.

Oral Comments: HHS and USDA invite the public to present virtual oral comments on Thursday, January 16, 2025. Pre-registration is required, and the number of commenters is limited based on time constraints. Registration for oral comments will open on Monday, December 16, 2024, at 1:00 p.m. EST and will close once capacity has been reached. Oral comments will be confirmed on a first-come, first-served basis. Oral comments will be limited to one representative per organization. All commenters' remarks should be respectful and given in a manner that recognizes and protects the dignity of the proceedings. Oral comments should focus on the scientific review and evidence-based advice found in the Scientific Report of the 2025 Dietary Guidelines Advisory Committees. More information on the oral comment opportunity will be available at www.DietaryGuidelines.gov.

Registration for Oral Comments: Requests to present oral comments can be made by going to www.DietaryGuidelines.gov. For registration to be accepted, a written outline or a summary of the intended oral comment will be required as part of the registration process. Please limit your written outline or summary to no more than 250 words. A confirmation email with instructions will be sent to confirmed speakers from DietaryGuidelines@hhs.gov. Confirmed speakers will have the option to submit a pre-recorded video to be played at the public meeting on January 16, 2025, or present virtual live oral remarks via videocast on January 16, 2025. To avoid technical difficulties, submission of a pre-recorded video is strongly encouraged.

Paul L. Reed,
Deputy Assistant Secretary for Health, Office of Disease Prevention and Health Promotion.

[FR Doc. 2024-29100 Filed 12-10-24; 8:45 am]

BILLING CODE 4150-32-P